ENVIRONMENTAL PROTECTION AGENCY

[FRL 12137-01-OAR]

Cross-Media Electronic Reporting: Electronic Submission of Reports, Notifications, and Other Submission Types

AGENCY: Environmental Protection Agency (EPA).

ACTION: Notice.

SUMMARY: This notice announces the Environmental Protection Agency's (EPA) allowance of the electronic submission of reports, notifications, or other required submission types (in an acceptable digital format) in certain Clean Air Act (CAA) regulations that do not already have electronic reporting requirements (i.e., reports, notifications, or other submission types required to be submitted in paper format or as specified in this notice, an email). This action is consistent with the provisions of the Cross-Media Electronic Reporting Rule (CROMERR) and streamlines reporting requirements by allowing regulated entities to submit specified reports, notifications, or other submission types electronically via the Compliance and Emissions Data Reporting Interface (CEDRI) on the EPA's Central Data Exchange (CDX) (see https://cdx.epa.gov), or to another EPA managed electronic document receiving system that may be designated for the receipt of specified submissions in the future. Additionally, performance test reports that do not already have CROMERR compliant electronic reporting requirements may utilize the Electronic Reporting Tool (ERT) (see https://www.epa.gov/electronic-reporting-air-emissions/electronic-reporting-tool-ert) to submit those reports to CEDRI in the form of an ERT submission package. The authority for the designation of alternative EPA electronic document receiving systems may not be redelegated to state, local, or tribal authorities. When a report, notification, or other submission type submitted under this new electronic submission option contains confidential business information (CBI), a file with the CBI omitted or redacted must be submitted to the CEDRI system and a separate, complete submission containing the claimed CBI information must be submitted through the described CBI submission process.

DATES: The allowance to electronically submit reports and notifications to CEDRI is effective September 25, 2024.

FOR FURTHER INFORMATION CONTACT: Aiden Titel, Measurement Policy Group, Sector Policies and Programs Division, Office of Air Quality Planning and Standards, Office of Air and Radiation, Environmental Protection Agency, 109 T.W. Alexander Drive, P.O. Box 12055, RTP, NC 27711; telephone number: (919) 541-4836; email address: titel.aiden@@epa.gov.

SUPPLEMENTARY INFORMATION:

I. Electronic Submission of Reports, Notifications, and Other Submission Types, and CROMERR Compliance

On October 13, 2005, the final CROMERR program was published in the Federal Register (70 FR 59748) and codified as part 3 of title 40 of the Code of Federal Regulations (CFR). CROMERR establishes electronic reporting as an acceptable regulatory alternative to paper reporting and establishes requirements to assure that electronic documents are as legally dependable as their paper counterparts. In accordance with 40 CFR 3.2(a), this notice announces that the EPA is prepared to receive, in electronic form, 40 CFR parts 59, 60, 61, 62, and 63 reports, notifications, or other submission types that do not already have electronic reporting requirements (i.e., paper reports, notifications, or other submission types), and emailed submissions that are associated with 40 CFR part 60 subpart AAA and 40 CFR part 60 subpart QQQQ. The submission method for reports, notifications, or other submission types affected by this allowance is to upload the reports, notifications, or other submission types in an acceptable digital format to CEDRI on the EPA's CDX electronic reporting platform, or to another EPA electronic document receiving system that the Administrator may designate for the receipt of specified submissions, complying with the system's requirements for submission. The authority for the designation of alternative EPA electronic document receiving systems may not be redelegated to state, local, or tribal authorities. For performance tests impacted by this allowance, affected entities may submit those reports in an acceptable digital format to CEDRI or process those reports via the ERT and then submit the ERT-generated submission package to CEDRI.

These allowances only apply to the Federal requirements for 40 CFR parts 59, 60, 61, 62, and 63 reports, notifications, or other submission types currently required to be submitted in paper format, and reports associated with 40 CFR part 60 subpart AAA and 40 CFR part 60 subpart QQQQ that are currently emailed to the Agency. Reporting requirements for reports, notifications, or other submission types required to be submitted to the EPA immediately, including, but not limited to, emergency notifications (e.g., the immediate startup, shutdown, and malfunction report required in 40 CFR 63.7545(f)), are not superseded by this notice, and may not utilize this allowance to submit electronically to CEDRI. Other existing or future mandatory electronic reporting requirements (e.g., E-Reporting requirements) promulgated in 40 CFR parts 59, 60, 61, 62, and 63 rules are also not superseded by this notice. This notice also does not supersede any state, local, or tribal reporting requirements.

II. Confidential Business Information (CBI)

The EPA recognizes that the potential for CBI in submissions exists. The CEDRI reporting system is not built to accommodate the submission of CBI. Accordingly, any records submitted to the CEDRI system should either not contain information claimed as confidential, or have any information claimed confidential redacted or otherwise omitted from the document submitted in the system. Any information submitted in the CEDRI system may be made available to the public without further notice to the submitter.

If you wish to assert a CBI claim for some of the information contained in a document that is submitted through this new reporting option under this notice, you must submit 2 versions of the document to the EPA. The CBI version of the document submitted should be the complete document that contains the information claimed as CBI (i.e., without redaction or omission of CBI). This version should be submitted electronically to the OAQPS CBI office following the procedure outlined in the paragraphs below. The non-CBI version of the document (i.e, the version with redacted or omitted CBI) will be submitted to the CEDRI system.

Clearly and specifically mark all the information that you claim to be CBI. Do not mark an entire document or pages of the document as CBI, unless you believe all text on the document or page is entitled to confidential treatment under the appropriate legal standard. Accordingly, the information that is redacted from the non-CBI document version that is being submitted to CEDRI should correspond to the information that is clearly marked as CBI in the CBI version. Information not marked as CBI may be authorized for public release without prior notice. Information marked as CBI will not be disclosed except in accordance with the procedures set forth in 40 CFR part 2.

The preferred method for CBI submittal is for it to be transmitted electronically using email attachments, File Transfer Protocol (FTP), or other online file sharing services. Electronic submissions must be transmitted directly to the OAQPS CBI Office at the email address oaqpscbi@epa.gov and should include clear CBI markings. Performance tests and performance evaluations should be flagged to the attention of the Group Leader, Measurement Policy Group and all other submissions should be flagged to the attention of the industrial sector lead (e.g., attention Coke Oven Sector Lead, attention Glass Manufacturing Sector Lead, etc.). If assistance is needed with submitting large electronic files that exceed the file size limit for email attachments, and if you do not have your own file sharing service, please email oaqpscbi@epa.gov to request a file transfer link.

If you cannot transmit the file electronically, you may send CBI information through the postal service to the following address: U.S. EPA, Attn: OAQPS Document Control Officer, Mail Drop: C404-02, 109 T.W. Alexander Drive, P.O. Box 12055, RTP, NC 27711, Attention: as noted in preceding paragraph. The mailed CBI material should be double wrapped and clearly marked. Any CBI markings should not show through the outer wrapping.

All CBI claims must be asserted at the time of submission. Anything submitted unredacted using CEDRI cannot later be claimed as CBI. Furthermore, under CAA section 114(c), emissions data are not entitled to confidential treatment, and the EPA is required to make emissions data available to the public. Thus, any information that meets the definition of emissions data (see 40 CFR 2.301(a)(2)) will not be protected as CBI and will be made publicly available.

III. Definitions

The definitions set forth in this section apply only when used in accordance with this notice.

Acceptable digital formats are file types that are compatible with CEDRI or other EPA electronic document receiving system that the Administrator may designate.

CDX is the EPA's Central Data Exchange, a central point which supplements the EPA reporting systems by performing new and existing functions for receiving legally acceptable data in various formats, including consolidated and integrated data. CDX can be accessed at https://cdx.epa.gov.

CEDRI is the Compliance and Emission Data Reporting Interface which supports the electronic submission of performance test reports, notification reports, periodic reports, and Information Collection Requests (ICRs). CEDRI can be accessed via the CDX at https://cdx.epa.gov, and more information on the interface can be found at https://epa.gov/electronic-reporting-air-emissions/cedri.

CFR is the United States' Code of Federal Regulations, which is the codification of the general and permanent rules published in the Federal Register by the departments and agencies of the Federal Government.

CROMERR is the Cross-Media Electronic Reporting Rule, which provides the legal framework for electronic reporting under the EPA's regulatory programs and ensures the enforceability of regulatory information collected electronically by the EPA and the EPA's state, tribal, and local government partners.

Electronic submission of reports, notifications, or other submission types is the submission of a digital version of a paper (or as specified in this notice, an email) report, notification, or other submission type to an approved EPA electronic document receiving system.

ERT is the EPA's Electronic Reporting Tool, which is a Microsoft Access computer application that creates electronic versions of stationary source sampling test plans and reports of test results for performance tests and performance evaluations.

E-Reporting (or electronic reporting) is a system in which an electronic tool guides the regulated entity through the reporting process often with built-in compliance assistance and data quality checks.

Joseph Goffman,
Assistant Administrator, Office of Air and Radiation.

[FR Doc. 2024-21893 Filed 9-24-24; 8:45 am]

BILLING CODE 6560-50-P